DEPARTMENT OF HEALTH AND HUMAN SERVICES

Substance Abuse and Mental Health Services Administration

Fiscal Year (FY) 2002 Funding Opportunities

AGENCY: Substance Abuse and Mental Health Services Administration, DHHS.

ACTION: Notice of Funding Availability.

SUMMARY: The Substance Abuse and Mental Health Services Administration (SAMHSA) Center for Mental Health Services (CMHS) announces the availability of FY 2002 funds for grants for the following activity. This notice is not a complete description of the activity; potential applicants must obtain a copy of the Guidance for Applicants (GFA), including Part I, Targeted Capacity Expansion: Meeting the Mental Health Services Needs of Older Adults, and Part II, General Policies and Procedures Applicable to all SAMHSA Applications for Discretionary Grants and Cooperative Agreements, before preparing and submitting an application.

Activity | Application deadline | Est. funds FY 2001 | Est. no. of awards | Project period
Targeted Capacity Expansion: Meeting the Mental Health Service Needs of Older Adults | May 31, 2002 | $5,000,000 | 10 | 3 years.

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: Knowledge Exchange Network, P.O. Box 42490, Washington, DC 20015. 800-789-2647.

The PHS 5161-1 application form and the full text of the activity are also available electronically via SAMHSA's World Wide Web home page: http://www.samhsa.gov.

When requesting an application kit, the applicant must specify the particular activity for which detailed information is desired. All information necessary to apply, including where to submit applications and application deadline instructions, are included in the application kit.

Purpose

The Substance Abuse and Mental Health Services Administration's (SAMHSA's), Center for Mental Health Services (CMHS), announces the availability of Fiscal Year 2002 funds for increasing service capacity for older persons with priority mental health needs. Grants or cooperative agreements are made as part of SAMSHSA/CMHS” “Targeted Capacity Expansion” (TCE) Program. The program title is Mental Health Services for Older Adults.

The purpose of this initiative is to increase the capacity of cities, counties, and tribal governments and not-for-profit direct service providers to provide intervention, early intervention, and treatment services to meet emerging and urgent mental health needs of older persons. In tandem with the direct provision of services the program provides resources for communities to build and/or expand the local and regional service system infrastructure that will help support prevention, early intervention, and treatment services having a strong evidence base.

Group I Awards

Targeted Capacity Expansion Awards for Meeting the Mental Health Service Needs of Older Adults. Up to nine awards are anticipated for Targeted Capacity Expansion grants to help communities provide direct services and to build the necessary infrastructure to support this expanded service provision for serving the diverse mental health needs of older persons.

Group II Award

Targeted Capacity Expansion Award for National Technical Assistance Center for the Mental Health Needs of Older Adults. One award is anticipated for a National Technical Assistance Center focused on the growing diverse mental health needs of older adults. This national resource center will engage in activities to synthesize and disseminate the knowledge base for mental health outreach, prevention, early intervention, assessment and treatment services for older persons.

Eligibility

Eligibility to apply for Group I Awards will be limited to cities, counties, and tribal governments and their agencies, and to not-for-profit direct service providers. Eligibility to apply for Group II Award includes all entities eligible for Group I Awards with the addition of private or public universities. Interested parties who do not meet these criteria, including faith-based organizations, are encouraged to partner with an agency or organization that is eligible to apply as the lead agency.

Availability of Funds

It is estimated that a total of $5 million will be available to support the program under this GFA in FY 2002. Actual funding levels will depend on the availability of funds. $3.6 million will be dedicated for Group I Awards. No more than $400,000 in total costs (direct and indirect) will be awarded per grant per year. $1.4 million will be dedicated for the Group II category. Annual awards will be made subject to the continued availability of funds and progress achieved by awardees.

Period of Support

Support may be requested for a period of up to three years for Group I and Group II awards (in three budget periods of one year each).

Criteria for Review and Funding

General Review Criteria: Competing applications requesting funding under this activity will be reviewed for technical merit in accordance with established PHS/SAMHSA peer review procedures. Review criteria that will be used by the peer review groups are specified in the application guidance material.

Award Criteria for Scored Applications

Applications will be considered for funding on the basis of their overall technical merit as determined through the peer review group and the appropriate National Advisory Council review process. Availability of funds will also be an award criteria. Additional award criteria may be included in the application guidance materials.

Catalog of Federal Domestic Assistance Number: 93.243.

Program Contact

For questions concerning program issues, contact: Betsy McDonel Herr, Ph.D., Social Science Analyst, Center for Mental Health Services, SAMHSA, Room 11C-22, 5600 Fishers Lane, Rockville, MD 20857. (301) 594-2197. (301) 443-0541 (Fax). E-mail: bmcdonel@samhsa.gov.

For questions regarding grants management issues, contact: Steve Hudak, Officer, Division of Grants Management, Substance Abuse and Mental Health Services Administration, Rockwall II, Room 630, 5515 Security Lane, Rockville, MD 20852. (301) 443-9666. E-Mail: shudak@samhsa.gov.

Public Health System Reporting Requirements

The Public Health System Impact Statement (PHSIS) is intended to keep state and local health officials apprized of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular activity is subject to the Public Health System Reporting Requirements.

PHS Non-Use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2002 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: April 18, 2002.
Richard Kopanda,
Executive Officer, SAMHSA.

[FR Doc. 02-9951 Filed 4-22-02; 8:45 am]

BILLING CODE 4162-20-P